DEPARTMENT OF TRANSPORTATION

Federal Aviation Administration

14 CFR Part 39

[Docket No. FAA-2012-0703; Directorate Identifier 2010-SW-019-AD; Amendment 39-17112; AD 2012-13-10]

RIN 2120-AA64

Airworthiness Directives; PZL Swidnik S.A. Helicopters

AGENCY: Federal Aviation Administration (FAA), Department of Transportation (DOT).

ACTION: Final rule; request for comments.

SUMMARY: We are adopting a new airworthiness directive (AD) for the PZL Swidnik S.A. (PZL) Model PZL W-3A helicopter with a certain generator air outlet collector (collector) installed. This AD requires modifying the generator air outlet collector attachments (collector attachments). This AD is prompted by an incident where cyclic control stick movement was restricted due to rotation of a loose collector, resulting in locking of the longitudinal control system hydraulic actuator fork end. These actions are intended to prevent rotation of the collector, which could lead to restricted cyclic control stick movement, and subsequent loss of control of the helicopter.

DATES: This AD becomes effective August 1, 2012.

The Director of the Federal Register approved the incorporation by reference of certain documents listed in this AD as of August 1, 2012.

We must receive comments on this AD by September 17, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, any comments received, and other information. The street address for the Docket Operations Office (telephone 800-647-5527) is in the ADDRESSES section. Comments will be available in the AD docket shortly after receipt.

For service information identified in this AD, contact Transportation Equipment Factory PZL-Świdnik S.A., A1. Lotników Polskich 1, 21-045 Świdnik, Poland; telephone (+48 81) 468 09 01, 751 20 71; fax (+48 81) 468 09 19, 751 21 73; or at www.pzl.swidnik.pl. You may review the referenced service information at the FAA, Office of the Regional Counsel, Southwest Region, 2601 Meacham Blvd., Room 663, Fort Worth, Texas 76137.

FOR FURTHER INFORMATION CONTACT: Gary Roach, Aviation Safety Engineer, FAA, Rotorcraft Directorate, Regulations and Policy Group, 2601 Meacham Blvd., Fort Worth, Texas 76137, telephone (817) 222-5110, email gary.b.roach@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

The European Aviation Safety Agency (EASA), which is the Technical Agent for the Member States of the European Union, has issued EASA AD No. 2010-0017, dated January 29, 2010, to correct an unsafe condition for the PZL Model PZL W-3A helicopter with a generator air outlet collector, part number (P/N) GT40PCz8B, installed. EASA advises there was a report of an in-flight incident where cyclic control stick movement was restricted. Post-flight investigation revealed that this incident was caused by the rotation of a loose collector, resulting in the locking of the longitudinal control system hydraulic actuator fork end. This condition, if not detected, could lead to restricted cyclic control stick movement, and subsequent loss of control of the helicopter.

FAA's Determination

These helicopters have been approved by the aviation authority of Poland and are approved for operation in the United States. Pursuant to our bilateral agreement with Poland, EASA, their technical representative, has notified us of the unsafe condition described in their AD. We are issuing this AD because we evaluated all information provided by EASA and determined the unsafe condition exists and is likely to exist or develop on other helicopters of this same type design.

There are no helicopters of this type currently registered in the United States. However, this rule is necessary to ensure that the described unsafe condition is addressed if any of these helicopters are placed on the U.S. Registry in the future.

Related Service Information

PZL has issued Service Bulletin No. BS-37-09-230, dated October 13, 2009 (SB), which specifies modifying the collector attachments to prevent collector rotation. The SB specifies installing a cable and reinforcing the welded clamping rings' connections with additional rivets. EASA classified this SB as mandatory and issued AD No. 2010-0017 to ensure the continued airworthiness of these helicopters.

AD Requirements

This AD requires modifying the collector attachments with a protective cable and additional riveting as described in Section II of the manufacturer's service bulletin.

Differences between this AD and the EASA AD

The EASA AD requires compliance within one month after the effective date of their AD, while this AD requires compliance within 100 hours time-in-service.

Costs of Compliance

There are no costs of compliance with this AD because there are no helicopters with this type certificate on the U.S. Registry.

FAA's Justification and Determination of the Effective Date

Since an unsafe condition exists that requires the immediate adoption of this AD, we determined that notice and opportunity for public comment before issuing this AD are unnecessary because there are none of these products on the U.S. Registry and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-13-10 PZL Swidnik S.A.: Amendment 39-17112; Docket No. FAA-2012-0703; Directorate Identifier 2010-SW-019-AD.

(a) Applicability

This AD applies to PZL Swidnik S.A. (PZL) Model PZL W-3A helicopters with a generator air outlet collector, part number (P/N) GT40PCz8B; certificated in any category.

(b) Unsafe Condition

This AD defines the unsafe condition as rotation of the generator air outlet collector, which could lead to restricted cyclic control stick movement and subsequent loss of control of the helicopter.

(c) Effective Date

This AD becomes effective August 1, 2012.

(d) Compliance

You are responsible for performing each action required by this AD within the specified compliance time unless it has already been accomplished prior to that time.

(e) Required Action

Within 100 hours time-in-service, modify the generator air outlet collector attachments in accordance with Section II and Sketches 1 and 2 of PZL-Swidnik Service Bulletin No. BS-37-09-230, dated October 13, 2009.

(f) Special Flight Permits

Special flight permits will not be issued.

(g) Alternative Methods of Compliance (AMOCs)

(1) The Manager, Safety Management Group, FAA, may approve AMOCs for this AD. Send your proposal to: Gary Roach, Aviation Safety Engineer, FAA, Rotorcraft Directorate, Regulations and Policy Group, 2601 Meacham Blvd., Fort Worth, Texas 76137, telephone (817) 222-5110, email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) AD 2010-0017, dated January 29, 2010.

(i) Subject

Joint Aircraft Service Component (JASC) Code: 2420: AC Generation System.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Transportation Equipment Factory PZL-Świdnik Service Bulletin No. BS-37-09-230, dated October 13, 2009, to do the actions required by this AD.

(ii) Reserved.

(3) For PZL service information identified in this AD, contact Transportation Equipment Factory PZL-Świdnik S.A., A1. Lotników Polskich 1, 21-045 Świdnik, Poland; telephone (+48 81) 468 09 01, 751 20 71; fax (+48 81) 468 09 19, 751 21 73; or at www.pzl.swidnik.pl.

(4) You may view this service information at the FAA, Office of the Regional Counsel, Southwest Region, 2601 Meacham Blvd., Room 663, Fort Worth, Texas 76137.

(5) You may also view this service information at the National Archives and Records Administration (NARA). For information on the availability of this material at NARA, call (202) 741-6030, or go to: http://www.archives.gov/federal_register/code_of_federal_regulations/ibr_locations.html.

Issued in Fort Worth, Texas, on July 2, 2012.
Kim Smith,
Manager, Rotorcraft Directorate, Aircraft Certification Service.

[FR Doc. 2012-16939 Filed 7-16-12; 8:45 am]

BILLING CODE 4910-13-P